DEPARTMENT OF HEALTH AND HUMAN SERVICES

National Institutes of Health

Notice of Meeting; Chairpersons, Boards of Scientific Counselors for Institutes and Centers at the National Institutes of Health

Notice is hereby given of a meeting scheduled by the Deputy Director for Intramural Research at the National Institutes of Health (NIH) with the Chairpersons of the Boards of Scientific Counselors. The Boards of Scientific Counselors form an advisory group to the Scientific Directors of the intramural research programs at the NIH. This meeting will take place from 10 a.m. to 3 p.m. on Monday, November 13, 2000, in the Medical Board Room of Building 10 at the NIH, 10 Center Drive, Bethesda, MD. The meeting will include a discussion of policies and procedures that apply to the regular review of NIH intramural scientists and their work, with special emphasis on clinical research.

Individuals who plan to attend and need special assistance, such as sign language interpretation or other reasonable accommodations, should contact Ms. Colleen Crone at the Office of Intramural Research, NIH, Building 1, Room 114, telephone (301) 496-1921 or fax (301) 402-4273 in advance of the meeting.

Dated: October 13, 2000.
Ruth L. Kirschstein,
Principal Deputy Director, National Institutes of Health.

[FR Doc. 00-27349 Filed 10-24-00; 8:45 am]

BILLING CODE 4140-01-M